DEPARTMENT OF THE TREASURY

Internal Revenue Service

26 CFR Part 1

[TD 9456]

RIN 1545-BI78, 1545-BI79, 1545-BI80

Treatment of Services Under Section 482; Allocation of Income and Deductions From Intangible Property; Apportionment of Stewardship Expense; Correction

AGENCY: Internal Revenue Service (IRS), Treasury.

ACTION: Correction to final regulations.

SUMMARY: This document contains corrections to final regulations (TD 9456) that were published in the Federal Register on Tuesday, August 4, 2009 (74 FR 38830) providing guidance regarding the treatment of controlled services transactions under section 482 and the allocation of income from intangible property, in particular with respect to contributions by a controlled party to the value of intangible property owned by another controlled party. These final regulations modify regulations under section 861 concerning stewardship expenses to be consistent with the changes made to the guidance under section 482.

DATES: This correction is effective on September 9, 2009, and is applicable on August 4, 2009.

FOR FURTHER INFORMATION CONTACT: Carol B. Tan or Gregory A. Spring, (202) 435-5265 for matters relating to section 482, or Richard L. Chewning, (202) 622-3850 for matters relating to stewardship expenses (not toll-free numbers).

SUPPLEMENTARY INFORMATION:

Background

The final regulations that are the subject of this document are under sections 482, 861, 6038, and 6662 of the Internal Revenue Code.

Need for Correction

As published, the final regulations (TD 9456) contain errors that may prove to be misleading and are in need of clarification.

Correction of Publication

Accordingly, the publication of the final regulations (TD 9456), which was the subject of FR Doc. E9-18326, is corrected as follows:

1. On page 38830, column 1, in the title, the language “Treatment of Services Under Section 482; Allocation of Income and Deductions From Intangible Property; Stewardship Expense” is corrected to read “Treatment of Services Under Section 482; Allocation of Income and Deductions From Intangible Property; Apportionment of Stewardship Expense”.

2. On page 38830, column 3, in the preamble, under the paragraph heading “Background”, first paragraph of the column, third line from the bottom of the paragraph, the language “years after December 31, 2006) as the” is corrected to read “years beginning after December 31, 2006) as the”.

3. On page 38832, column 1, in the preamble, under the paragraph heading “e. Business Judgment Rule”, first paragraph, eleventh line, the language “one or more trades or business of the” is corrected to read “one or more trades or businesses of the”.

4. On page 38833, column 1, in the preamble, under the paragraph heading “g. Shared Services Arrangements”, second paragraph, fifth line, the language “under an SSA to the service provider” is corrected to read “under a SSA to the service provider”.

5. On page 38835, column 2, in the preamble, under the paragraph heading “7. Controlled Services Transactions and Shareholder Activities—Treas. Reg. § 1.482-9(l)”, second paragraph of the column, lines 1 and 2 from the bottom of the paragraph, the language “aggregate activity; rather than a component activity-by-activity basis.” is corrected to read “aggregate-activity basis; rather than a component activity-by-activity basis.”.

6. On page 38835, column 3, in the preamble, under the paragraph heading “b. Global Dealing Operations”, last line of the paragraph, the language “of global dealing regulations.” is corrected to read “of new global dealing regulations.”.

7. On page 38837, column 1, in the first paragraph heading, the language “D. Stewardship Expenses—§ 1.861-8” is corrected to read “D. Apportionment of Stewardship Expenses—§ 1.861-8”.

LaNita Van Dyke,
Chief, Publications and Regulations Branch, Legal Processing Division, Associate Chief Counsel (Procedure and Administration).

[FR Doc. E9-21227 Filed 9-8-09; 8:45 am]

BILLING CODE 4830-01-P